DEPARTMENT OF THE INTERIOR

National Park Service

Final Notice of Intent 6/22/04

AGENCY: National Park Service, Department of the Interior.

ACTION: Notice of intent to prepare an environmental impact statement for an Elk Management Plan, Theodore Roosevelt National Park, North Dakota.

SUMMARY: Under the provisions of the National Environmental Policy Act (NEPA) of 1969 (42 U.S.C. 4321 et seq.), the National Park Service (NPS) is preparing an environmental impact statement for an elk management plan for Theodore Roosevelt National Park (THRO), North Dakota. An elk management plan is needed to manage the elk population within established acceptable levels, to test for chronic wasting disease (CWD) and to identify a range of elk management strategies that are compatible with long-term protection of other park resources and natural ecosystems and processes. A number of factors contribute to the need for this plan. The elk population within the park has increased rapidly since elk were reintroduced in 1985. Due to the lack of predators, less suitable habitat outside the park and the limited movement of elk, the elk population will likely continue to grow unchecked. Excessive browsing caused by high densities of elk may adversely affect rangeland and cultural resources in the park. Furthermore, this plan is needed because the 2003 agreement related to the reintroduction of elk among the NPS, the U.S. Forest Service (USFS) and the North Dakota Game and Fish Department indicates that the NPS has the responsibility to manage the elk population within the park at an acceptable level.

DATES: To be most helpful to the scoping process, comments should be received within 60 days of the publication of this notice in the Federal Register. See details for sending comments in SUPPLEMENTARY INFORMATION below. The NPS intends to conduct public scoping at locations throughout North Dakota, including Bismarck, Medora, Dickinson, Fargo, and Minot. Please check local newspapers, the THRO website at http://www.nps.gov/thro or contact the name listed below to find out when and where these open houses will be held and to view draft documents and other current information regarding elk management and the EIS.

ADDRESSES: Information will be available for public review and comment at the Theodore Roosevelt National Park headquarters located at 315 2nd Ave., Medora, ND 58645.

FOR FURTHER INFORMATION CONTACT: Bruce Kaye, Public Information Officer, or Valerie Naylor, Superintendent, at (701) 623-4466.

SUPPLEMENTARY INFORMATION: The NPS seeks to complete an environmental impact statement (EIS) to address elk management at THRO. Section 4.4.2 of the NPS Management Policies (2001) provides for the active management of native animals when management of a population is necessary because it occurs in unnaturally high or low numbers because of human influence. An elk management strategy is needed at THRO because past and current actions within and beyond the park have created conditions that allow the THRO elk population to increase with little or no control. These conditions include the absence of elk predators, the ineffectiveness of public hunting outside of the park as a population control method for elk that range primarily within the park, lack of significant winter kill and other environmentally-caused elk mortalities, high reproductive and survival rates, and the discontinuation of translocating elk from the park.

Elk were reintroduced to the South Unit (SU) of THRO in 1985 to restore an extirpated native species. The SU is surrounded by a 7 foot high woven-wire fence, which has specially designed crossings to allow for movement of most wildlife, yet confines bison and feral horses in the park. Large predators have been extirpated since the late 1800s, and effective natural predation on ungulates is limited to that which occurs on young by coyotes and bobcats. Since elk reintroduction in 1985, the population has doubled approximately every 3 years. Research was initiated in 1985 to provide insight into the forage requirements of elk and other grazers in the SU. The resulting model, which considered the forage needs of all ungulates in the park, suggested the park could maintain up to 360 elk. Since 1993, the population has exceeded 360 several times, causing subsequent removals through translocation to tribes and other agencies. A third removal was scheduled for January 2003 but canceled due to concerns about chronic wasting disease (CWD). Although CWD has not been found in North Dakota, the NPS policy dictates that translocation of elk may only occur if the animals are free of disease. Currently, the elk herd numbers about 550, exceeding the maximum number of animals the model suggested can be sustained long-term without negatively affecting other park resources.

A determination of the effects of the elk management plan will be conducted in accordance with NEPA (42 U.S.C. 4372 et seq.), NEPA regulations (40 CFR 1500-1508), other appropriate Federal regulations, and the NPS procedures and policies for compliance with those regulations.

The North Dakota Game and Fish Department and the USFS will serve as Cooperating Agencies in the preparation of the EIS, per NEPA guidelines.

If you wish to comment on the scoping brochure or any other issues associated with the plan, you may submit your comments by any one of several methods. Written comments may be mailed or hand-delivered to the Superintendent at the address above. You may e-mail comments to thro_forum@nps.gov. Please submit internet comments as a text file avoiding the use of special characters and any form of encryption. Please put in the subject line “Elk Management Plan,” and include your name and return address in your message. If you do not receive a confirmation from the system that we have received your message, contact Bruce Kaye, Public Information Officer, at the number listed above.

Our practice is to make comments, including names and home addresses of respondents, available for public review during regular business hours. Individual respondents may request we withhold their home addresses from the record, which we will honor to the extent allowable by law. There, also, may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: July 15, 2004.
Ernest Quintana,
Regional Director.

[FR Doc. 04-19789 Filed 8-30-04; 8:45 am]

BILLING CODE 4312-AH-P